DEPARTMENT OF THE INTERIOR

Bureau of Land Management

[BLM_AK_FRN_MO4500169067]

Notice of Availability of the Draft ANCSA 17(d)(1) Withdrawals Environmental Impact Statement, Alaska

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Draft ANCSA 17(d)(1) Withdrawals Environmental Impact Statement.

DATES: To afford the BLM the opportunity to consider comments in the Final EIS, please ensure that the BLM receives your comments within 60 days following the date the Environmental Protection Agency (EPA) publishes its Notice of Availability (NOA) of the Draft EIS in the Federal Register. The EPA usually publishes its NOAs on Fridays.

ADDRESSES: The Draft EIS is available for review on the BLM ePlanning project website at https://eplanning.blm.gov/eplanning-ui/project/2018002/510.

Written comments related to the Draft ANCSA 17(d)(1) Withdrawals EIS may be submitted by any of the following methods:

• ePlanning website: https://eplanning.blm.gov/eplanning-ui/project/2018002/510.

• Mail: ANCSA 17(d)(1) EIS, BLM Anchorage District Office, Attn: Racheal Jones, 4700 BLM Road. Anchorage, Alaska 99507.

• Hand Deliver comments to: BLM Alaska State Office, BLM Alaska Public Information Center, 222 West 7th Avenue (First Floor), Anchorage, Alaska.

Documents pertinent to this proposal may be examined online at https://eplanning.blm.gov/eplanning-ui/project/2018002/510, at the Anchorage Field Office, and at the BLM Alaska State Office, BLM Alaska Public Information Center.

FOR FURTHER INFORMATION CONTACT: Racheal Jones, BLM Project Manager, telephone (907) 290-0307; address ANCSA 17(d)(1) EIS, BLM Anchorage District Office, Attn: Racheal Jones, 4700 BLM Road. Anchorage, Alaska 99507; email rajones@blm.gov. Individuals in the United States who are deaf, deafblind, hard of hearing, or have a speech disability may dial 711 (TTY, TDD, or TeleBraille) to access telecommunications relay services for contacting Ms. Jones. Individuals outside the United States should use the relay services offered within their country to make international calls to the point-of-contact in the United States.

SUPPLEMENTARY INFORMATION: Introduction: The U.S. Department of the Interior (DOI), BLM Alaska State Office, prepared this EIS to evaluate the effects of any Secretarial decision to open lands subject to the Alaska Native Claims Settlement Act (ANCSA) Section 17(d)(1) withdrawals within the lands described in Public Land Orders (PLOs) 7899 through 7903. (The potential opening of the lands subject to these 17(d)(1) withdrawals is hereafter referred to as the project). PLOs 7900, 7901, 7902, and 7903, which would revoke withdrawals of lands in the Ring of Fire, Bay, Bering Sea-Western Interior, and East Alaska planning areas, respectively, were signed on January 15 and 16, 2021; however, they were never published in the Federal Register. PLO 7899, which would revoke withdrawals of lands in the Kobuk-Seward Peninsula planning area, was signed on January 11, 2021, and published in the Federal Register on January 19, 2021 (86 FR 5236). Subsequently, the DOI identified certain procedural and legal defects in the decision-making process for these PLOs, as described in the April 16, 2021, Federal Register notice (86 FR 20193), including an insufficient analysis under NEPA. The DOI extended the opening order for PLO 7899 until August 31, 2024, to provide an opportunity to review the decisions and to ensure the orderly management of the public lands (88 FR 21207). The BLM is using this time to address identified deficiencies and update the NEPA analysis supporting the decisions regarding the PLOs now under review (the 2021 Action).

Purpose and Need for Action: The 2021 Action under review is revocation of the ANCSA 17(d)(1) withdrawals as described in PLOs 7899, 7900, 7901, 7902, and 7903. This EIS evaluates the resource conditions on these lands and incorporates and describes additional coordination with other Federal agencies, State and local governments, federally recognized Tribes, Alaska Native Corporations, and stakeholders to ensure that the environmental analysis previously conducted will be updated and expanded upon as appropriate. This additional analysis is necessary to understand the impacts of revocation of the ANCSA 17(d)(1) withdrawals; to correct errors in the previous decision-making process regarding these withdrawals; and to ensure that opening these lands is consistent with the purposes of ANCSA 17(d)(1), which requires that “the public interest in these lands is properly protected,” including factors such as subsistence hunting and fishing, habitat connectivity, protection of cultural resources, and protection of threatened and endangered species. This evaluation is needed to make an informed public interest determination to support revocation in full, revocation in part, or full retention of the ANCSA 17(d)(1) withdrawals.

Alternatives: The BLM considered alternatives that would provide different configurations of 17(d)(1) withdrawals that would be retained or revoked in the five planning areas (Bay, Bering Sea-Western Interior, East Alaska, Kobuk-Seward, and Ring of Fire). Each of the alternatives identifies 17(d)(1) withdrawals in the five planning areas as retained or revoked. The alternatives range from retaining the withdrawals on all lands (Alternative A) to revoking the withdrawals on all lands (Alternative D). Alternatives B and C include partial revocations of the withdrawals.

Summary of Expected Impacts: The revocation of the withdrawal on lands subject to State top filings under the Statehood Act would result in the State's selections becoming effective and a resulting loss of Federal subsistence priority applying to those lands. No development plans have been submitted, and no stipulations are attached to the lands that would prevent any specific development. Therefore, the EIS provides a Reasonably Foreseeable Development scenario that identifies and quantifies potential development activity in the decision area, including the extraction of leasable, locatable, and salable minerals, as well as the establishment of associated rights-of-way, assuming the land is not withdrawn from availability for such activities.

Full or partial revocation of the ANCSA 17(d)(1) withdrawals may result in changes to land use that could affect local residents, wildlife, vegetation, cultural resources, subsistence, and recreation across up to 28 million acres of BLM-administered land in Alaska.

Schedule for the Decision-Making Process: The BLM will provide opportunities for public participation consistent with the NEPA processes, including a 60-day comment period on the Draft EIS. A Secretarial decision is anticipated in Summer 2024, following the publication of a Final EIS.

Public Involvement Process: This notice of availability initiates the public comment period, which will guide the development and analysis of the Final EIS. The BLM will evaluate all comments received and is specifically soliciting comments related to how to minimize effects to subsistence, cultural resources, and natural resources. The BLM will be holding virtual and in-person public meetings and Alaska National Interest Lands Conservation Act section 810 subsistence hearings. The specific date(s) and location(s) of these meetings will be announced in advance through email, social media, radio public service announcements, local media, newspapers, and on the ePlanning project page https://eplanning.blm.gov/eplanning-ui/project/2018002/510.

The input of Alaska Native Tribes and Corporations is of critical importance to this EIS. Therefore, during the NEPA process, the BLM will continue to consult with potentially affected Tribal Nations on a government-to-government basis, and with affected Alaska Native Corporations in accordance with Executive Order 13175, as well as Public Law 108-199, Div. H, sec. 161, 118 Stat. 452, as amended by Public Law 108-447, Div. H, sec. 518, 118 Stat. 3267, and other Department and Bureau policies. The BLM respectfully requests participation in consultation by Alaska Native Tribes and Alaska Native Corporations to provide their views and recommendations on the analysis, including effects from the proposed activities. The BLM will hold individual consultation meetings upon request.

It is important that reviewers provide their comments at such times and in such manner as are useful to the agency's preparation of the Final EIS. Therefore, comments should be provided prior to the close of the comment period and should clearly articulate the reviewer's concerns and contentions.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Steven Cohn,
Alaska State Director.

[FR Doc. 2023-27647 Filed 12-14-23; 8:45 am]

BILLING CODE 4331-10-P